FEDERAL COMMUNICATIONS COMMISSION

47 CFR Parts 0, 1, 61, and 69

[CC Docket Nos. 96-262, 94-1, 98-157, and CCB/CPD File No. 98-63; DA 04-31]

Parties Asked To Refresh Record Regarding Reconsideration of Rules Adopted in 1999 Access Reform Docket

AGENCY: Federal Communications Commission.

ACTION: Proposed rule.

SUMMARY: In this document, the Commission invites parties that filed petitions for reconsideration and clarification of rules that the Commission adopted in the 1999 access charge reform docket to update the record. These parties may file any new information or arguments that they believe to be relevant to deciding only those issues that they previously raised in their petitions. Because the petitions for reconsideration and clarification were filed several years ago, the intervening developments and passage of time may have caused the record to become stale. If these parties do not indicate an intent to pursue their previous petitions, the Commission will deem them withdrawn and will dismiss them.

DATES: Comments are due on or before February 20, 2004, and reply comments are due on or before March 8, 2004.

ADDRESSES: Federal Communications Commission, 445 12th Street, SW., Washington, DC 20554. See SUPPLEMENTARY INFORMATION for filing instructions.

FOR FURTHER INFORMATION CONTACT: Marvin F. Sacks, Attorney-Advisor, Wireline Competition Bureau, Pricing Policy Division, (202) 418-1520 or via the Internet at marvin.sacks@fcc.gov.

SUPPLEMENTARY INFORMATION: Below is a summary of the Public Notice that the Commission released on January 8, 2004. In that document, the Commission invites parties to refresh the 1999 Access Reform Docket, CC Docket Nos. 96-262, 94-1, 98-157, and CCB/CPD File No. 98-63 adopted August 5, 1999, and released August 27, 1999. When filing comments and reply comments, parties should reference CC Docket Nos. 96-262, 94-1, 98-157, and CCB/CPD File No. 98-63, and conform to the filing procedures contained in the Notice. All pleadings may be filed using the Commission's Electronic Comment Filing System (ECFS) or by filing paper copies. Comments filed through the ECFS can be sent as an electronic file via the Internet to http://www.fcc.gov/cgb/ecfs. Commenters must transmit one electronic copy of the comments to each docket number referenced in the caption. In completing the transmittal screen, commenters should include their full name, U.S. Postal Service mailing address, and the applicable docket number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket number appears in the caption of this proceeding, commenters must submit two additional copies for each additional docket number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. The Commission advises that electronic media not be sent through USPS. All filings must be addressed to the Commission's Secretary, Office of the Secretary, Federal Communications Commission, 445 12th Street, SW., Suite TW-A325, Washington, DC 20554. Two (2) copies of the comments and reply comments should also be sent to Deena Shetler, Deputy Division Chief, Pricing Policy Division, Wireline Competition Bureau, Federal Communications Commission, 445 12th Street, SW., Room 5-A121, Washington, DC 20554. Parties shall also serve one copy with Qualex International, Portals II, 445 12th Street, SW., Room CY-B402, Washington, DC 20554, (202) 863-2893, or via e-mail to qualexint@aol.com. The original petitions for reconsideration and clarification filed by the parties in CC Docket Nos. 96-262, 94-1, 98-157, and CCB/CPD File No. 98-63 are available for public inspection and copying during business hours at the FCC Reference Information Center, Portals II, 445 12th Street, SW., Room CY-A257, Washington, DC 20554. The documents may also be purchased from Qualex International, telephone (202) 863-2893, facsimile (202) 863-2898. This document may also be purchased from Qualex International and is available via the Internet at http://hraunfoss.fcc.gov/edocs_public/attachmatch/DA-03-3961A1.pdf.

Synopsis

1. The Commission on January 8, 2004, released a Public Notice that seeks to refresh the record in the 1999 Access Reform Docket. In this docket, the Commission on August 27, 1999 released the Access Reform Fifth Report and Order, published at 64 FR 60122 (November 4, 1999) in CC Docket Nos. 96-262, 94-1, 98-157, and CCB/CPD File No. 98-63, FCC 99-206. This order established a framework for granting greater pricing flexibility for price cap carriers as competition develops. Bell Atlantic, GTE, Access Solutions Corporation, and the United States Telephone Association subsequently filed petitions for reconsideration and clarification of that order.

2. Since then, the Commission has received and granted a number of petitions seeking pricing flexibility. In addition, AT&T recently asked the Commission to revisit pricing flexibility issues, and parties have responded by filing extensive comments.

3. Because the petitions for reconsideration and clarification were filed several years ago, the intervening developments and passage of time may have rendered the records developed by those petitions stale. Issues raised in the pending petitions may have become moot or irrelevant. As a result, it is not clear what issues arising out of the Access Reform Fifth Report and Order, if any, remain in dispute.

4. For these reasons, the Commission requests that parties that filed petitions for reconsideration and clarification of the Access Reform Fifth Report and Order now file a supplemental notice indicating those issues that they still wish to be reconsidered or clarified. These parties may refresh the record with any new information or arguments that they believe to be relevant to deciding only those issues that they previously raised in their petitions for reconsideration and clarification. To the extent that these parties do not indicate an intent to pursue these petitions, the Commission will deem them withdrawn and will dismiss them.

Federal Communications Commission.
Tamara Preiss,
Division Chief, Pricing Policy Division, Wireline Competition Bureau.

[FR Doc. 04-1195 Filed 1-20-04; 8:45 am]

BILLING CODE 6712-01-P